DEPARTMENT OF LABOR

Mine Safety and Health Administration

30 CFR Parts 70, 75 and 90

RIN 1219-AB14

Verification of Underground Coal Mine Operators' Dust Control Plans and Compliance Sampling for Respirable Dust; Correction

AGENCY: Mine Safety and Health Administration (MSHA), Labor.

ACTION: Proposed rule; correction.

SUMMARY: This document lists typographical errors which appeared in the preamble to a proposed rule regarding verification of underground coal mine operators' dust control plans and compliance sampling for respirable dust published in the Federal Register on July 7, 2000. Information in this document is provided to correct these errors.

FOR FURTHER INFORMATION CONTACT: Carol J. Jones, Director, Office of Standards, Regulations, and Variances, MSHA; 703-235-1910.

Corrections

As published, the proposed rule preamble contains typographical errors. This document provides information so that a reader may correct those errors. No corrections are being made to the regulatory text. Please note: if you received a copy of the proposed rule from MSHA in the mail, some of the corrections have already been made. These are marked with an *.

In the proposed rule addressing verification of underground coal mine operators' dust control plans and compliance sampling for respirable dust, published in the Federal Register on July 7, 2000 (65 FR 42122), make the following corrections:

1. On page 42123 , column one, line 9 insert “provide” between “third,” and “additional”.

2. On page 42140, column two, in the formula, change “m³” to read “m³/min”.

3. On page 42143, column three, line 45, section heading, insert “with” between “comply” and “this”.

4.* On page 42144, column three, line 67, within footnote 9, change “1-P (X>=n)” to “1-P(X>n)”.

5. On page 42159, column two, line 18, remove “and NIOSH”.

6. On page 42159, column two, lines 19 and 20, remove “and NIOSH are” and replace with “is”.

7. On page 42160, column two, line 46, replace “Secretaries invite” with “Secretary invites”.

8. On page 42161, footnote 14, line 3, replace “production of” with “proportion of”.

9. On page 42164, column three, line 51, change “January 2000” to read “June 2000”.

10. On page 42170, Table IX-3, line two, column one (of text), change “≤500 employees” to read “≤ 500 employees”.

Dated: July 20, 2000.
Carol J. Jones,
Director, Office of Standards, Regulations and Variances.

[FR Doc. 00-18812 Filed 7-21-00; 12:45 pm]

BILLING CODE 4510-43-P